DEPARTMENT OF HOMELAND SECURITY

Science and Technology Directorate; Record of Decision for the National Bio and Agro-Defense Facility Environmental Impact Statement

AGENCY: Science and Technology Directorate (Office of National Laboratories within the Office of Research), DHS.

ACTION: Record of Decision (ROD).

SUMMARY: The U.S. Department of Homeland Security (DHS), Science and Technology Directorate is issuing this ROD on the proposed siting, construction, and operation of the National Bio and Agro-Defense Facility (NBAF) (the Proposed Action). This ROD is based on the information and analysis in the NBAF Final Environmental Impact Statement (NBAF Final EIS) including public comments, and consideration of other appropriate factors such as national policy, site evaluation criteria, threat and risk assessment, costs, security, and other programmatic requirements. The Notice of Availability for the NBAF Final EIS was published in the Federal Register (73 FR 75665-75667) on December 12, 2008.

DHS has decided to implement the Preferred Alternative identified in Section 2.6 of the NBAF Final EIS. Implementation of this alternative would result in construction of the NBAF at the Manhattan Campus Site in Manhattan, Kansas, and initiation of the transition of mission activities and resources from the Plum Island Animal Disease Center (PIADC), located on Plum Island, New York, to the Manhattan Campus Site.

DHS appreciates the significant cost, time, and effort that each consortium expended during this comprehensive decision process, and DHS thanks the consortia for their support of the homeland security mission. The comprehensive and well thought out proposals from states around the Nation and their consortia reflected the impressive capabilities of their communities. Each consortium and host state demonstrated a strong desire to make the Nation safer for animal agriculture through advanced research on foreign animal and zoonotic and emerging diseases.

FOR FURTHER INFORMATION, CONTACT: The NBAF Final EIS (approximately 5,000 pages), Executive Summary, and this ROD are available on the DHS Web site at http://www.dhs.gov/nbaf. Requests for copies of the NBAF Final EIS, the Executive Summary, or this ROD should be mailed to Mr. James V. Johnson: Department of Homeland Security; Science and Technology Directorate; Office of National Laboratories, Room 10-052, Mail Stop #2100; 245 Murray Lane, SW., Building 410; Washington, DC 20528. You may also request copies from: toll-free facsimile 1-866-508-NBAF (6223); toll-free voice mail 1-866-501-NBAF (6223); or e-mail at nbafprogrammanager@dhs.gov. For more information or general questions about the NBAF EIS, contact Mr. James V. Johnson at the address given previously.

Copies of the NBAF Final EIS, Executive Summary, and this ROD are also available for review at the following public reading rooms:

Georgia

University of Georgia Main Library, 320 South Jackson Street, Athens, GA 30602.

Oconee County Library, 1080 Experiment Station Road, Watkinsville, GA 30677.

Kansas

Manhattan Public Library, 629 Poyntz Avenue, Manhattan, KS 66502.

Hale Library, Kansas State University, Manhattan, KS 66506.

Mississippi

City of Flora Library, 144 Clark Street, Flora, MS 39071.

New York

Acton Public Library, 60 Old Boston Post Road, Old Saybrook, CT 06475.

Southold Free Library, 53705 Main Road, Southold, NY 11971.

North Carolina

Richard H. Thornton Library, 210 Main Street, Oxford NC 27565-0339.

South Branch Library, 1547 South Campus Drive, Creedmoor, NC 27522.

Texas

Central Library, 600 Soledad, San Antonio, TX 78205.

SUPPLEMENTARY INFORMATION:

I. Background

DHS prepared this ROD pursuant to the regulations of the Council on Environmental Quality (CEQ) for implementing the National Environmental Policy Act (NEPA) (40 CFR Parts 1500-1508) and DHS Directive 023-01 (renumbered from management Directive 5100.1), Environmental Planning Program. This ROD is based on: (1) The site's ability to satisfy the evaluation criteria published in the “Public Notice Soliciting Expressions of Interest (EOIs) for Potential Sites for the NBAF” (which was published in the Federal Register on January 19, 2006); (2) the site's ability to satisfy the preferences (including request of site in-kind contributions to offset infrastructure costs) communicated to all second round potential NBAF sites (by letter dated December 8, 2006); (3) confirmation of the site offers for site infrastructure costs (submitted to DHS by March 31, 2008); (4) the environmental impacts identified in the NBAF Final EIS; and (5) information contained in the supporting documents (Threat and Risk Assessment, Site Cost Analysis, Site Characterization Study, and The Plum Island Facility Closure and Transition Cost Study).

Purpose and Need for Agency Action

DHS is charged with the responsibility and has the national stewardship mandate for detecting, preventing, protecting against, and responding to terrorist attacks within the United States. These responsibilities, as applied to the defense of animal agriculture, are shared with the U.S. Department of Agriculture (USDA) and require a coordinated strategy to adequately protect the Nation against threats to animal agriculture. Consultations between DHS and USDA on a coordinated agricultural research strategy, as called for in the Homeland Security Act of 2002 (Pub. L. 107-296) and Homeland Security Presidential Directive 9 (HSPD-9), “Defense of United States Agriculture and Food,” dated January 30, 2004, revealed a capability gap that must be filled by an integrated research, development, test, and evaluation infrastructure for combating agricultural and public health threats posed by foreign animal and zoonotic diseases. The DHS Science and Technology Directorate is responsible for addressing the identified gap.

Accordingly, to bridge the capability gap and to comply with HSPD-9, DHS proposed to build the NBAF, an integrated research, development, test, and evaluation facility.

Co-locating DHS with USDA's Animal and Plant Health Inspection Service—Veterinary Services (APHIS-VS) and Agricultural Research Service (ARS) at the NBAF would enable research, diagnostics, and responses to outbreaks in agricultural animals (i.e. cattle, swine, and sheep) at a U.S.-based facility. Co-locating these functions in a single secure facility would maximize synergies and provide enhanced capabilities for the detection and prevention of foreign animal diseases in the United States.

The NBAF would meet the capabilities required in HSPD-9 by providing a domestic, modern, integrated high-containment facility containing BSL-2, BSL-3E, BSL-3Ag, and BSL-4 laboratories for an estimated 250 to 350 scientists and support staff to safely and effectively address the accidental or intentional introduction into the United States of animal diseases of high consequence.

Currently, the Plum Island Animal Disease Center (PIADC), where much of the Biosafety Level-3 Agricultural (BSL-3Ag) research on foreign animal diseases is performed, is an essential component of the national strategy for protecting U.S. agriculture from threats caused by intentional attack (i.e., agro-terrorism) or unintentional introduction of foreign animal disease viruses such as foot and mouth disease virus (FMDV). However, PIADC was built in the 1950s, is nearing the end of its lifecycle, and does not contain the necessary biosafety level facilities to meet the NBAF research requirements. The NBAF would fulfill the need for a secure U.S. facility that could support collaborative efforts among researchers from Federal and state agencies, academia, and international partners to perform necessary research at the required biosafety levels 3 and 4. Additionally, as discussed in the recent Report of the Commission on the Prevention of Weapons of Mass Destruction (WMD) Proliferation and Terrorism (December 2008), the United States should continue to undertake a series of mutually reinforcing domestic measures to prevent bioterrorism.

Prior to passage of the Food, Conservation, and Energy Act of 2008 (H.R. 6124 [2008 Farm Bill]) which became law on May 22, 2008, the United States Code (21 U.S.C. Section 113a) stipulated that live FMDV could not be studied on the U.S. mainland unless the Secretary of Agriculture made a determination that such study was necessary and in the public interest and issued a permit for such research to be conducted on the mainland. Section 7524 of the 2008 Farm Bill directs the Secretary of Agriculture to issue a permit to the Secretary of Homeland Security for work on the live FMDV at any facility that is a successor to the Plum Island Animal Disease Center and charged with researching high-consequence biological threats involving zoonotic and foreign animal diseases. The permit is limited to a single successor facility. On December 18, 2008, the Secretary of Homeland Security, Michael Chertoff sent a letter to the Secretary of Agriculture, Ed Schafer requesting that a permit be issued if a mainland site is selected. On January 9, 2009 DHS received a letter from Secretary Schafer that affirmed USDA's intention of complying with Congressional direction to issue a permit for the movement and use of live FMDV at the NBAF.

As stated in Section 2.2.2 of the NBAF EIS, the NBAF may be operated as a Government Owned/Government Operated Facility (GOGO) or as a Government Owned/Contractor Operated Facility (GOCO). The final decision regarding the operating model for the NBAF will be made at a later date. The current planning approach is to utilize the Plum Island operating model, which is a GOGO facility. Should a decision be made to operate the NBAF as a GOCO facility, procurement of such services would follow the Federal Acquisition Regulation and applicable DHS procurement requirements, and a program management plan, which would set forth management, supervisory, and contracting activities between the Federal government and a contractor, would be prepared.

Site Selection Process and Evaluation Criteria

DHS conducted a competitive site selection process to identify and evaluate potential candidate sites for the NBAF; Plum Island was also included as an alternative site for evaluation, as described in Chapter 2, Section 2.3.1 of the NBAF Final EIS. The site selection process was initiated by publication of a Notice of Request for EOI submissions for Potential Sites for the NBAF in the Federal Register on January 19, 2006 (71 FR 3107-3109). DHS requested EOI submissions from Federal agencies, state and local governments, industry, academia, and interested parties and organizations for potential locations that would accommodate the construction and operation of the NBAF.

Twenty-nine EOI submissions were received from consortia comprised of various governmental, industry, and academic partners by the March 31, 2006 response deadline. DHS developed and implemented a rigorous process for the first round evaluation of the 29 EOIs received, against DHS's four evaluation criteria (i.e., Proximity to Research Capabilities, Proximity to Workforce, Acquisition/Construction/Operations (ACO) Requirements, and Community Acceptance) and associated sub-criteria. These criteria and their associated sub-criteria were developed by an interagency working group to ensure that the NBAF would meet the interdependent needs of DHS and USDA to adequately protect the Nation against biological threats to animal agriculture. DHS emphasizes that the Proximity to Research Capabilities and Workforce ratings apply exclusively to the specific research and workforce needs of the proposed NBAF and are not a general statement on the research capability and workforce expertise of the proposing states and consortia. For example, the Proximity to Research evaluation criterion considered existing research programs that could be linked to NBAF mission requirements pertaining to large livestock diseases studied in Biosafety Level 3 and 4 facilities and the Proximity to Workforce evaluation criterion considered site proximity to a local labor force with expertise in biocontainment facilities relevant to the NBAF mission. Included within the ACO criterion were sub-criteria in the areas of: (1) Land acquisition/development potential, (2) environmental compatibility, including the presence of existing environmental concerns/contamination or environmentally sensitive areas, and (3) adequate utility infrastructure. These factors, in part, enabled DHS to screen candidate sites for significant environmental constraints prior to initiating the EIS. Three committees comprised of Federal employees evaluated the EOI submissions, assessing their strengths, weaknesses, and deficiencies against the four evaluation criteria and associated sub-criteria. A Steering Committee, also comprised of Federal employees, made recommendations to the DHS Selection Authority (DHS Under Secretary for Science and Technology), who then selected those sites that had sufficient qualifications with regard to the evaluation criteria, and eliminated others from further consideration. On August 9, 2006, DHS selected 18 sites submitted by 12 consortia for further review.

Subsequently, on December 8, 2006, DHS sent a letter to the 12 remaining consortia. This letter requested additional information to complete the next phase of the evaluations, communicated DHS's “preferences” within each of the four criteria, provided instructions on how to submit the requested information, and provided information on the next steps in the site selection process. DHS stated it would give strong preference to six specific “preferences” in the next phase of the evaluation. Two examples of these preferences are: (1) For the proximity to research criterion, that the proposed site is within a comprehensive research community that has existing research programs in areas related to the NBAF mission requirements (veterinary, medical and public health, and agriculture), and (2) for the ACO criterion, any in-kind contributions [e.g., deeded land at no cost rather than sale, new utility provisions and/or upgrades (e.g., sewer, electricity, water, chilled water, steamed water, etc.) and new roadways] would be offered to DHS (by the consortium, state government, local government, or private entities). The decision to offer land, financial offsets or other incentives was solely at the discretion of the consortium. This letter is posted on the DHS Web site at http://www.dhs.gov/nbaf.

Upon receipt of the requested additional information and in-kind offers from the consortia in February 2007, an evaluation team of USDA and DHS Federal employees conducted site visits to 17 sites. The Hinds County Site, originally proposed by the Mississippi Consortium, was withdrawn in a letter DHS received on April 5, 2007. The intent of each site visit was to: (1) Verify the information provided and representations made in the EOI submissions and the additional information submitted, (2) enable evaluation committee representatives to view any observable physical conditions and constraints at the proposed sites and, if applicable, (3) to view the sites' utilities and infrastructure. Based on the evaluation team's analysis of the additional information and observations on the site visits, the team provided recommendations to the DHS Selection Authority. Additionally and independently of the evaluation team, the DHS Selection Authority (DHS Under Secretary for Science and Technology) visited each of the 17 sites.

In July 2007, DHS identified five site alternatives that surpassed others in meeting the DHS evaluation criteria, sub-criteria, and DHS preferences, and determined that they, along with the Plum Island Site, would be evaluated in the EIS as reasonable alternatives for the proposed NBAF. The Final Selection Memorandum for Site Selection for the Second Round Potential Sites for the National Bio and Agro-Defense Facility (NBAF) and the Plum Island Memorandum for the Record, which are available on the DHS_Web site at http://www.dhs.gov/nbaf, documented the findings of this process. The site alternatives selected for evaluation in the EIS were:

South Milledge Avenue Site; Athens, Georgia

Manhattan Campus Site; Manhattan, Kansas

Flora Industrial Park Site; Flora, Mississippi

Plum Island Site; Plum Island, New York

Umstead Research Farm Site; Butner, North Carolina

Texas Research Park Site; San Antonio, Texas

NEPA Process

On July 31, 2007, DHS published a Notice of Intent in the Federal Register (72 FR 41764-41765) to prepare the NBAF EIS to evaluate the environmental impacts of constructing and operating the proposed NBAF at one of the reasonable site alternatives. The 60-day scoping period for the NBAF EIS ended on September 28, 2007. Scoping meetings were held in the vicinity of the six site alternatives (Old Saybrook, Connecticut; Southold, New York; Manhattan, Kansas; Flora, Mississippi; San Antonio, Texas; Creedmoor, NC; and Athens, Georgia), along with one regional meeting in Washington, DC.

More than 1,350 people attended the scoping meetings. Nearly 300 people provided oral comments at the public meetings, and more than 3,870 comments were received during the scoping period. Areas of concern shared by many commentors during scoping were the placement of the proposed NBAF in a highly populated area or in an area that houses institutionalized populations. These concerns focused on the public health risk should an accidental or intentional (criminal or terrorist) release occur, its potential effects on the population, and the ability of affected communities to evacuate the area. Other concerns were: locating the facility near herds or flocks of animals susceptible to the diseases studied, environmental effects to biological and natural resources, and resources required for the construction and operation of the NBAF, particularly water. Details on the scoping process and issues identified are documented in the February 2008, NBAF EIS Scoping Report, which is available on the DHS Web site at http://www.dhs.gov/nbaf and in the aforementioned public reading rooms.

The Notice of Availability of the NBAF Draft EIS was published in the Federal Register on June 27, 2008 (73 FR 36540-36542). The public comment period extended through August 25, 2008. Thirteen public meetings were held between late July and mid-August 2008 at the same locations as the scoping meetings or at nearby alternate locations as follows: Washington, DC (one meeting); Butner, North Carolina (two meetings); Manhattan, Kansas (two meetings); Flora, Mississippi (two meetings); San Antonio, Texas (two meetings); Old Saybrook, Connecticut (one meeting); Greenport, New York (one meeting); and Athens, Georgia (two meetings).

During the 60-day public comment period on the NBAF Draft EIS, more than 1,770 individuals attended the public meetings on the NBAF Draft EIS, 378 of whom provided oral comments. Analysis of the oral and written comment documents received, yielded more than 5,400 delineated comments. Specifically, a number of comments focused on the ability of DHS to safely operate the NBAF and the potential for a pathogenic release to occur through accidents, natural phenomena, and terrorist actions. The majority of the comments related to the following concerns: (1) Ability of DHS to safely operate a biosafety facility; (2) the May 2008 U.S. Government Accountability Office (GAO) report regarding whether FMD research could be safely conducted on the U.S. mainland; (3) impacts of natural phenomena such as tornadoes, earthquakes, and hurricanes on the NBAF resulting in the release of a pathogen; (4) the possibility that an escaped infected mosquito vector would cause a pathogen such as Rift Valley fever virus to become established in the United States; (5) economic effects of a release or a perceived release on the local, state, and national livestock industry or on local deer populations and the hunting industry; (6) accident risk of transportation of infectious agents; (7) the likelihood that the NBAF and the surrounding community would become a prime terrorist target that DHS could not adequately protect from attack; (8) release of a pathogen due to human error or by disgruntled employee(s); (9) the availability of appropriate funding to safely construct and operate the NBAF; (10) use of the NBAF to manufacture bioweapons; (11) the need for and effects of mosquito control and spraying of insecticides; (12) the site selection process and the evaluation criteria used to select the Preferred Alternative; (13) waste management regarding carcass disposal, including identification of precise methods of disposal, the effects to local sewage treatment infrastructure, and possible effects to air quality from incineration; (14) pollution of ground or surface water resources due to spills and leaks; (15) the amount of water that would be used by the NBAF in light of the current regional drought in North Carolina and Georgia; (16) in Georgia, the proximity of the South Milledge Avenue Site to the State Botanical Gardens, the Audubon-designated Important Bird Area, and the Oconee River; (17) in North Carolina, concerns that institutionalized populations were not afforded the appropriate level of analysis; (18) in New York, the limited routes from an island location should an accident requiring evacuation occur; and (19) in Kansas, the number of cattle in the region and the economic effects of a release impacting them.

All comments received during the public comment period were considered. DHS's responses to comments are presented in Appendix H of the NBAF Final EIS, and the NBAF EIS was revised, as necessary, in response to comments. The Notice of Availability for the NBAF Final EIS was published in the Federal Register on December 12, 2008 (73 FR 75665-75667).

As identified in the Notice of Availability of the NBAF Draft EIS and as further discussed in Section 2.6 of the NBAF Final EIS, additional studies were performed to provide important decision-making information, and for formulation of this ROD. The supporting documents considered include: (1) Threat and Risk Assessment dated October 2008, (2) Site Cost Analysis, dated July 25, 2008 (3) Site Characterization Study, dated July 25, 2008 (4) Plum Island Facility Closure and Transition Cost Study dated July 2008; and (5) a prior analysis of the alternative sites against DHS's four evaluation criteria (i.e., Final Selection Memorandum for Site Selection for the Second Round Potential Sites for the National Bio and Agro-Defense Facility (NBAF) dated July 2007, and The Plum Island Memorandum for the Record dated November 2008). CEQ regulations (40 CFR 1505.1(e)) encourage agencies to make ancillary decision documents available to the public before a decision is made. Accordingly, the Site Cost Analysis, Site Characterization Study, Plum Island Facility Closure and Transition Cost Study, Final Selection Memorandum, and other reports were made available in August 2008 on the DHS Web site with redactions to mask certain sensitive financial and security information. The Threat and Risk Assessment, which was designated For Official Use Only, was not posted on the Web site. Relevant information from these reports was used in the preparation of the NBAF Final EIS.

II. Alternatives Considered

DHS evaluated the potential environmental impacts that could result from implementation of alternatives for construction and operation of the NBAF. A No Action Alternative and the six site alternatives were analyzed in the NBAF EIS.

No Action Alternative

Under the No Action Alternative, consideration of which is required by NEPA, the NBAF would not be constructed. DHS and USDA would continue to use the PIADC on Plum Island, New York. Plum Island is an 840-acre island located about 12 miles southwest of New London, Connecticut, and 1.5 miles from the northeast tip of Long Island, New York (i.e., Orient Point). While the island is technically located in the Village of Greenport, Town of Southold, Suffolk County, New York, Plum Island is administered wholly by the Federal government. The Homeland Security Act of 2002 recognized that protecting the U.S. agricultural infrastructure is a critical element of homeland security and transferred PIADC from USDA to DHS in 2003. While DHS now has responsibility for operating PIADC, both DHS and USDA conduct programs there as part of an integrated agro-defense strategy.

Under the No Action Alternative, investment in necessary facility upgrades, replacements, and repairs, which are ongoing, would continue so that PIADC could continue to operate at its current BSL-3Ag capability. However, PIADC's capabilities would not be expanded to address the NBAF mission requirements. The BSL-3Ag work at PIADC (large livestock research on foreign animal diseases and zoonotic diseases in the United States) would continue, and BSL-4 research would continue to be performed outside of the United States. This alternative does not satisfy the purpose of and the need for the Proposed Action.

South Milledge Avenue Site; Athens, Georgia

This alternative would locate the NBAF at the South Milledge Avenue Site located west of the South Milledge Avenue and Whitehall Road intersection in Clarke County, Georgia. The site is part of the University of Georgia Whitehall Farm and is located near the University of Georgia Livestock Instructional Area. The site is a 67-acre tract of land consisting of open pastureland and wooded land and is utilized by the University of Georgia Equestrian Team. The topography is rolling terrain, which slopes towards the southwest. The site has been undeveloped land since at least 1936 and is currently zoned for government use.

Manhattan Campus Site; Manhattan, Kansas

This alternative would locate the NBAF on the campus of Kansas State University (KSU) immediately adjacent to the Biosecurity Research Institute. The Biosecurity Research Institute, constructed in 2006, is a KSU BSL-3Ag research facility. The Manhattan Campus Site consists of approximately 48.4 acres southeast of the intersection of Kimball Avenue and Denison Avenue. The site has been used for animal research since the 1970s. The site includes several structures, including five research buildings, a residential structure, and a storage building for recycling materials. The site is currently zoned as University District and was annexed to the City of Manhattan in 1994. The 48.4-acre site could be expanded to 70 acres.

Flora Industrial Park Site; Flora, Mississippi

This alternative would locate the NBAF at the Flora Industrial Park Site, which is located in Madison County, Mississippi. The site is owned by the Madison County Economic Development Authority. Flora Industrial Park is a mixed-use commercial park 45 miles from the Jackson-Evers International Airport. Additional land is available surrounding the site for support facilities. The site is located on the east side of U.S. Highway 49, north and east of the intersection with North 1st Street. The Flora Industrial Park Site is approximately 150 acres of idle pasture land with two small ponds and a few scattered wooded areas. An overhead power transmission line is present through the south-central and west-central portions of the site. The site is currently zoned as limited industrial. Based on historical information, the site had previously been cultivated and was in pasture land and previously occupied by two small tenant houses and one hay barn. Adjoining properties appear to have been predominantly agricultural and rural residential until construction of the southwest-adjoining Primos Manufacturing Company in the early 2000s.

Plum Island Site; Plum Island, New York

This alternative would locate the NBAF on Plum Island, New York. The Plum Island Site consists of approximately 24 acres of land located directly to the east of the existing PIADC, which is on the western shore of Plum Island. Although one of the requirements listed in DHS's request for EOIs stated that a minimum of 30 acres would be required, the Plum Island Site would not require the full 30 acres. Existing facilities associated with PIADC would be available for use with the NBAF and would reduce the amount of space required. The 24-acre site has no existing structures. Dense underbrush and gravel roads are found within the southwestern and northeastern portions. The southeastern portion of the island has previously been used for sand mining and is generally void of vegetation. The northwestern portion of the island has minor vegetation. A potable water line bisects the site from east to west, and an underground electric service borders the site on the north side. Based on a review of the historical information, the Plum Island Site was formerly utilized as a landfill area for miscellaneous non-infectious wastes associated with PIADC, but the site has since been remediated.

Umstead Research Farm Site; Butner, North Carolina

This alternative would locate the NBAF at the Umstead Research Farm Site in Butner, North Carolina. The site is currently owned and operated by North Carolina Department of Agriculture, Research Farms Division. The site is located north of the terminus of Dillon Drive along the northern property boundary of the C.A. Dillon Youth Development Center in Butner. The site is a 249-acre tract of pasture, grassland, and wooded land that is zoned as institutional. The site area was operated from early 1942 to June 1943 as part of Camp Butner, a training facility for light infantry and artillery during World War II. Other operations included ammunition storage, a redeployment center, and a general and convalescent hospital. The site has been undeveloped wooded land since at least 1940, except for one cemetery. The site has historically been maintained as undeveloped wooded land; however, in the fall of 2001, the site and surrounding area were partially logged.

Texas Research Park Site; San Antonio, Texas

The Texas Research Park Site in San Antonio, Texas, extends over the Bexar County line into a portion of Medina County. The 100.1-acre site is located west of Lambda Drive, south of the proposed extension of Omicron Drive, and is currently vacant, undeveloped land covered in dense vegetation comprised of trees, shrubs, and tall prairie grasses. The site appears to have consisted of vacant, undeveloped ranch land before 1938 to the present. The site has no zoning category because it is outside the San Antonio city limits. The entire Texas Research Park property is a 1,000-acre industrial district 4 miles outside the San Antonio city limits.

III. Preferred Alternative

CEQ regulations require an agency to identify its preferred alternative(s) in the final environmental impact statement (40 CFR 1502.14). The preferred alternative is the alternative that the agency believes would best fulfill its statutory mission, giving consideration to environmental, economic, technical, and other factors. DHS's Preferred Alternative and the basis for its selection are described in Section 2.6 of the NBAF Final EIS. Additionally, DHS published the Preferred Alternative Selection Memorandum in December 2008, which describes in more detail the basis for the selection of the Preferred Alternative, on the DHS Web site at http://www.dhs.gov/nbaf. DHS's Preferred Alternative is to construct and operate the NBAF at the Manhattan Campus Site in Manhattan, Kansas.

DHS developed and implemented a decision process to identify the Preferred Alternative in the NBAF Final EIS. A Steering Committee, comprised of Federal employees from DHS and USDA, was convened to lead the evaluation process and make recommendations to the DHS Decision Authority (the DHS Under Secretary for Science and Technology). The process involved a qualitative analysis of the strengths and weaknesses of each action alternative (i.e., site alternative) followed by an overall data comparison to develop a relative ranking of each site alternative. The Steering Committee also considered the No Action Alternative and weighed it against the Proposed Action of constructing and operating the NBAF at the highest ranked site alternative.

The Steering Committee updated the findings from the previously described second round evaluation of site alternatives using new and emerging data collected since July 2007. This data was contained in the following support documents, as previously discussed: (1) Threat and Risk Assessment dated October 2008, (2) Site Cost Analysis, dated July 25, 2008, (3) Site Characterization Study, dated July 25, 2008, and (4) Plum Island Facility Closure and Transition Cost Study dated July 2008. Additionally, on February 29, 2008, DHS sent a letter to each consortium requesting they confirm or update the details of their site offers (in response to the December 8, 2006 DHS letter) and provided a final opportunity to identify contingences to their offers. DHS also provided background on the process it would follow to identify its preferred site alternative. The February 29, 2008 letter was not a request for financial proposals, but rather an opportunity for the consortia to verify and update their original in-kind offers received in February 2007 in response to the December 2006 letter request. DHS required responses to be postmarked by March 30, 2008 (later changed to March 31, 2008 to fall on a weekday). The decision to offer land, funds, or other assets was solely at the discretion of each consortium. The amount of the contribution and how the contribution would be funded (e.g., bonds, taxes) was determined by the consortia and/or the state and local government officials.

The Steering Committee next considered the environmental impacts presented in the NBAF EIS including the public comments made at the public meetings and by other means during the 60-day public comment period on the NBAF Draft EIS, along with the information in the Threat and Risk Assessment. The Steering Committee found that the NBAF EIS and the Threat and Risk Assessment presented very little differentiation between the sites. In fact, the NBAF EIS determined that the risk of release of a biological pathogen from the NBAF was independent of where the NBAF was located. The Steering Committee also determined that, based on its review of the NBAF EIS, the likelihood of a release of a pathogen was very low, given appropriate attention to the design, construction, and operation of the NBAF with an array of safety controls. The Steering Committee further determined that the risk of release of any identified pathogen proposed for study within the NBAF could be mitigated by implementation of operational protocols, rigid security measures, and adherence to the U.S. Government biosecurity guidelines.

With respect to the economic consequence if a release of FMDV from the NBAF were to happen, the Steering Committee found that the Nation's meat export trade status would suffer the greatest impact and that this is independent of the site of the NBAF. The World Organization for Animal Health (OIE) affirms the Steering Committee's findings. OIE, created in 1924 by 28 countries, issues standards, guidelines, and recommendations which are designated as the international referenced in the field of animal diseases and zoonoses. As of January 2009, the OIE consisted of 172 nations, including the U.S. The OIE's determination regarding a country's FMD status significantly impacts that country's ability to export meat. Dr. Bernard Vallat, the Director General of the OIE, in a letter to DHS, dated November 24, 2008, stated the following:

“You asked a specific question as to whether it would make a difference in terms of the health status of a country if a foot-and-mouth (FMD) disease outbreak would occur in the mainland or on an off shore island like Plum Island. My response is based on today's international recommendations, as published in the Terrestrial Animal Health Code of the OIE, which constitutes the only internationally accepted standards. Today's international standards provide recommendations that significantly reduce the sanitary and economic impact of the affected country or zone in case of such an outbreak, provided there is a credible veterinary infrastructure that can guarantee the early detection and the rapid response in accordance with the measures recommended by the OIE. However, regardless of where in the territory of a country an outbreak of FMD occurs, the FMD status of the country is lost immediately upon the first notification to the OIE. The difference, in terms of the national impact of this outbreak, is more related to how the country's authorities respond to the incursion, rather then where the outbreak occurs.

As was the case in the recent outbreak at Pirbright, United Kingdom, the veterinary authorities immediately notified the OIE and established a “containment zone” as defined in the Terrestrial Animal Health Code. Once they could demonstrate that all cases had been contained within such zone and that no further cases were detected within a 30-day period, the entire country regained its FMD-free status, with the only exception of the containment zone. The necessary and lengthy period to regain the free status, as described in the Code is not limited to the containment zone, something in the past applied to the entire affected country or zone.”

Chapter 4.3 of the OIE Terrestrial Animal Health Code (Zoning and Compartmentalization) includes guidance on establishing a containment zone. Article 4.3.3 of the Code states:

“Establishment of a containment zone should be based on a rapid response including appropriate standstill of movement of animals and commodities upon notification of suspicion of the specified disease and the demonstration that the outbreaks are contained within this zone through epidemiological investigation (trace-back, trace-forward) after confirmation of infection. The primary outbreak and likely source of the outbreak should be identified and all cases shown to be epidemiologically linked. For the effective establishment of a containment zone, it is necessary to demonstrate that there have been no new cases in the containment zone within a minimum of two incubation periods from the last detected case.”

The Steering Committee determined that, based on the lack of differentiation among the sites regarding the risk of a release and the economic consequences of a release, that it was most important to select a location that would optimize the capability to diagnose and cure large animal diseases through strong research programs and expedient diagnostic and response capabilities. Furthermore, the Steering Committee found that the environmental impacts analyzed in the EIS and the site specific threats were all very similar and that there were only minor differentiators in the EIS and the Threat and Risk Assessment. Therefore, the key differentiators among the sites were DHS's initial four evaluation criteria. Because the NBAF is intended to be the Nation's preeminent research facility for foreign animal and zoonotic disease research, the site's proximity to research capabilities that can be linked to NBAF mission requirements was emphasized among the four evaluation criteria. Overall site evaluations were followed by the ranking of the sites to determine the recommended site alternative.

The Steering Committee then considered the No Action Alternative and weighed it against the Proposed Action of constructing and operating the NBAF at the highest ranked site alternative to determine the recommended Preferred Alternative. Based on numerous strengths in terms of the evaluation criteria, the Steering Committee concluded that the Manhattan Campus Site best met the purpose and need to site, construct and operate the NBAF.

The Manhattan Campus Site's location near KSU provides proximity to existing research capabilities that can be linked to NBAF mission requirements. Additionally, the site's proximity to the KSU College of Veterinary Medicine, KSU College of Agriculture, and the Biosecurity Research Institute is relevant to the NBAF mission and is, therefore, a significant strength. The NBAF EIS demonstrated that construction and operation of the NBAF at the Manhattan Campus Site would be environmentally acceptable, because almost all environmental impacts fell into the “no impacts to minor impacts” category. As stated in the NBAF EIS, the risk of release of a pathogen was independent of where the NBAF was located. The information presented in the Threat and Risk Assessment was found to be comparable to the other site alternatives. The Manhattan Campus Site alternative demonstrated very strong community acceptance from local, state, and Federal officials and stakeholders. Additionally, the consortium offered a substantial, unconditional offset package, including the immediate and long-term use of the existing Biosecurity Research Institute, an existing Biosecurity Level 3 facility within close proximity to the Manhattan Campus Site in which research pertaining to livestock disease is conducted. Taking into consideration the offsets to infrastructure costs and “in-kind” contributions offered by the consortia, the Manhattan Campus Site is among the least expensive location to construct and operate the NBAF. Following a comparison of this site with the No Action Alternative, DHS selected the Manhattan Campus Site as the Preferred Alternative for implementation.

IV. Alternatives Considered But Dismissed

In developing a range of reasonable alternatives early in the NEPA process, DHS considered other potential alternatives, including suggestions made by the public during the scoping process. The following alternatives were considered but were determined not to be reasonable alternatives for evaluation in the NBAF Draft EIS:

Upgrade PIADC. The proposed NBAF would require BSL-4 capability. PIADC does not have BSL-4 laboratory space, and the existing infrastructure is inadequate to support a BSL-4 laboratory. Refurbishing the existing facilities and obsolete infrastructure to allow PIADC to meet the new mission would be more costly than building the NBAF on Plum Island. In addition, for the existing facility to be refurbished, current research activities might have to be suspended for extensive periods.

Use Existing Laboratory Facilities. No existing U.S. facility could meet the NBAF mission needs as determined by DHS and USDA. Although a number of BSL-3 and BSL-4 facilities are located in the U.S., they do not have the capacity to conduct the large livestock research required. Similar facilities in Winnipeg, Canada, and Geelong, Australia, do not have the capacity to address potential outbreak scenarios in the United States in a timely manner and cannot guarantee their availability to meet U.S. research requirements.

Other Locations. Other potential locations were considered during the NBAF site selection process, but they were eliminated based on evaluation by the DHS evaluation committee. It was suggested during the scoping process that the NBAF be constructed in a remote location such as an island distant from populated areas or in a location that would be inhospitable (e.g., desert or arctic habitat) to escaped animal hosts or vectors. However, the evaluation criteria called for proximity to research programs that could be linked to the NBAF mission and proximity to a technical workforce with applicable skills for the NBAF mission. The Plum Island Site represents an isolated location while meeting the evaluation requirements. It was also suggested that the NBAF could be constructed beneath a mountain; however, the cost and feasibility of such a construction project would be prohibitive.

V. Summary of Environmental Impacts

A sliding-scale approach was the basis for the environmental impacts analysis in the NBAF EIS. This approach reflects CEQ requirements for implementing NEPA and its instruction that Federal agencies preparing EISs “focus on significant environmental issues and alternatives” (40 CFR 1502.1) and that impacts be discussed “in proportion to their significance” (40 CFR 1502.2(b)). That is, certain aspects of the alternatives have a greater potential for creating environmental effects than others. Thus, the NBAF EIS addressed resource areas pertinent to the sites considered. Impacts were assessed for land use and visual resources; infrastructure; air quality; noise; geology and soils; water resources; biological resources; cultural resources; socioeconomics; traffic and transportation; existing hazardous, toxic, or radiological waste; waste management; environmental justice; as well as operational impacts on human health and safety and wildlife from normal operations and accidental releases of pathogens. Environmental impacts of current, proposed, and reasonably foreseeable activities at candidate sites were included in the cumulative impacts analysis presented in the NBAF EIS.

DHS has weighed environmental impacts as one factor in its decision making, analyzing existing environmental impacts and the potential impacts that might occur for each reasonable alternative, including the irreversible or irretrievable commitments of resources. Under the No Action Alternative, continued operations of the PIADC would have little or no incremental environmental impacts, except that construction of ongoing infrastructure upgrades could have negligible to minor and temporary effects on such resources as land resources, geology and soils, and water resources during construction.

As demonstrated in the NBAF Final EIS, short term impacts associated with the construction of the NBAF and normal facility operations under the Proposed Action are not expected to result in any unacceptable environmental consequences at any of the site alternatives, though each site does have its own unique adverse environmental aspects. Potential construction impacts have been minimized through the site selection process and proposed placement of the proposed NBAF within the boundaries of each site alternative, based on the conceptual design. There would be little or no direct effects to wetlands, water resources, natural biotic communities, protected species, or cultural and archaeological resources at any site alternative. Normal facility operations were determined to have no potential for adverse impacts on biological resources and human health and safety. The NBAF would provide state-of-the-art operating procedures and biocontainment design features to minimize the potential for laboratory-acquired infections and accidental releases of pathogens. Nonetheless, some minor impacts would occur from construction and operations and are unavoidable under the Proposed Action.

Land Use and Visual Resources

Under each of the site alternatives, conversion of approximately 30 acres of open land to the NBAF would occur. Land use would be consistent with the local zoning classifications under all site alternatives, except that an amendment to the Clarke County, Georgia comprehensive plan might be required to allow the NBAF to be constructed at the South Milledge Avenue site. Placement of the NBAF on undeveloped land would alter the viewshed of each of the sites, although this effect may be most pronounced at the South Milledge Avenue Site and least pronounced at the Manhattan Campus Site due to the adjoining and nearby land uses, respectively. Similarly, during normal operations, outdoor nighttime lighting would have impacts at all sites, with the detrimental effects varying based on adjoining land uses. Use of shielded fixtures and the minimum intensity of lighting that are necessary to provide adequate security could mitigate the effects.

Infrastructure

Construction of some infrastructure improvements, including utilities and roadways would be required at all sites, and their environmental impacts were evaluated in the NBAF EIS. The need for infrastructure improvements would be greatest for the Umstead Research Park Site, the South Milledge Avenue Site, the Plum Island Site, and the Flora Industrial Park Site with the least for the Manhattan Campus Site. Utility requirements would be similar for all site alternatives. Water use would vary to some degree for each site, but NBAF operation would result in use of approximately 36 million (Plum Island Site) to 52 million (Texas Research Park Site) gallons per year. Electric power demands would be very similar for all sites ranging from 12.8 to 13.1 megawatts, with connection to existing or new substations required at all site alternatives. A new substation would be required at the South Milledge Avenue Site and construction of new underwater power cables would be required to provide redundant power to the Plum Island Site. Operation at all sites except the Plum Island Site would use natural gas as the primary fuel for operating the NBAF. New connecting lines would be needed at the South Milledge Avenue Site, the Flora Industrial Park Site, and the Umstead Research Farm Site. For sanitary sewer, the NBAF operation would generate between 25 million and 30 million gallons of wastewater per year. Capacity would be available from all existing or planned wastewater treatment facilities serving the alternative sites. Wastewater discharged by the NBAF would meet all local wastewater permit requirements and would be pretreated as necessary. New sewer lines would be needed at the Flora Industrial Park Site, the Umstead Research Farm Site, and the Texas Research Park Site.

Air Quality and Severe Weather

Air quality effects would occur with construction and operation of the NBAF for all sites with similar regulatory air permitting requirements. Operation of the NBAF would result in air emissions from boilers, emergency generators, and traffic from employees and deliveries. Additional air emissions would occur from carcass and pathologic waste treatment that may include incineration, alkaline hydrolysis, or rendering. Conservative estimates of air emissions indicate that operation of the NBAF could affect regional air-quality standards for PM2.5 (particulate matter with diameter less than or equal to 2.5 microns). The Plum Island Site is in non-attainment areas for ozone and PM2.5 therefore, air emissions from the NBAF would need to comply with the State Implementation Plan (SIP) to improve air quality and the requirement that a conformity analysis be performed. Following final design, the potential and actual NBAF air emissions will be evaluated to demonstrate compliance with National Ambient Air Quality Standards and applicable air-quality permitting requirements.

The NBAF would be designed to withstand normal meteorological conditions and the effects of severe weather events including tornadoes. Specifically, NBAF would be designed and constructed to meet or exceed the wind load standards of the International Building Code, American Society of Civil Engineers Standard No. 7, Minimum Design Loads for Buildings and Other Structures, and the codes of the local jurisdiction, which take into account the functional use of the facility as a laboratory.

Noise

Construction of NBAF would result in some temporary increase in noise levels near the sites from construction equipment and activities. As a consequence of the NBAF operations, minor increases in noise levels from employee traffic and heating and cooling facilities would occur and operation of emergency generators would result in sporadic noise increases during testing. Impacts on adjoining properties would vary based on the associated land uses and presence of sensitive receptors. Potential impacts could be mitigated by conducting generator testing during normal business hours. If blasting is required during construction, a blasting plan would be developed to mitigate potential noise levels.

Geology and Soils

Effects to geology and soils would be similar for all sites. The NBAF would be designed to withstand and minimize the effects of earthquakes including the seismic design provisions of the International Building Code, American Society of Civil Engineers Standard No. 7, Minimum Design Loads for Buildings and Other Structures, and the codes of the local jurisdiction, which take into account the functional use of the facility as a laboratory. Temporary effects to soils would occur due to excavation and site clearing, but erosion control measures would minimize any adverse effects from construction and operation. Prime and unique farmland soils would potentially be affected at all sites. A detailed geotechnical study would be performed to guide the final facility design in order to mitigate the effects of any geologic hazards on the NBAF to include identification of fractures, geologic fault traces, voids or other solution features, unstable soils, or other subsurface conditions which could impact facility construction and operations.

Water Resources

Potential effects to water resources could occur with construction activities and would be similar for all sites. However, the South Milledge Avenue Site, the Flora Industrial Park Site, and the Umstead Research Farm Site are closer to surface waters so the potential for effects are greater at these sites. Runoff from the construction site has the potential to enter surface or groundwater sources, but stormwater management during construction would minimize the potential for this to occur. Similar effects could occur with operation of the NBAF. Strict compliance with stormwater pollution prevention plans and spill management protocols would minimize the potential and mitigate the potential effects of a spill. Wastewater would be collected and conveyed to existing wastewater treatment facilities and pretreated as required to meet all local wastewater permit requirements.

Biological Resources

Effects to vegetation, wetlands, wildlife, aquatic life, and threatened or endangered species would be similar for all site alternatives with a few exceptions. Site clearing would remove approximately 30 acres of vegetation, although all of the sites have been previously disturbed to some degree. Wetlands would be affected at the South Milledge Avenue Site from road and utility crossings (less than 0.5 acres), and approximately 0.2 acres of forested uplands would be lost. Threatened or endangered species, aquatic resources, and wildlife would not be directly affected by construction or normal operations at any site. Noise and light from the NBAF could affect wildlife, particularly migratory birds, with this potential determined to be greatest for the South Milledge Avenue Site and Umstead Research Farm Site. Mitigation of potential noise and light impacts were previously described.

During operation, an accidental release of pathogens from the NBAF would adversely affect susceptible wildlife populations and would be similar for all sites. To minimize potential impacts in the unlikely event of a release, DHS would have site-specific standard operating procedures and response plans in place prior to the initiation of research activities at the proposed NBAF.

Socioeconomics

Construction activities at all sites would result in between 1,300 and 1,614 temporary jobs generating between $138.2 million and $183.9 million in labor income and between $12.5 million and $24.7 million in state and local taxes. Population, housing, and quality of life would not be affected by construction. Operation of the NBAF would result in 250 to 350 direct jobs and an estimated income of between $26.8 million and $30.4 million annually. Population growth due to the NBAF would be a small portion of the estimated growth in the regions surrounding all sites. The effect of the NBAF on the housing market and quality of life (i.e., schools, law enforcement, fire protection, medical facilities, recreation, and health and safety) would be negligible. Law enforcement and fire protection personnel could be trained by DHS to respond to incidents at the NBAF.

The risk of an accidental release of a pathogen is extremely low, but the economic effect could be substantial for all sites. The primary economic effect of an accidental release of FMD virus would be the banning of exports of U.S. livestock products regardless of the location of the accidental release, which could reach as high as $4.2 billion until the U.S. was declared foot and mouth disease (FMD) free. Response measures to minimize risks and quickly contain any accidental release would greatly reduce the potential economic loss.

Traffic and Transportation

Local traffic at all sites would be temporarily affected by general construction traffic. Operation of the NBAF would result in only minor increases in daily traffic on roads near all the sites except for roads near the Umstead Research Farm Site (Range Road and Old Route 75), which are not heavily used by local traffic and would experience a 140% increase in average daily traffic. Transportation of research materials would not significantly increase the risk of a traffic-related incident.

Existing Hazardous, Toxic, and Radiological Waste

Recent investigations at the Umstead Research Farm Site indicate that the potential for unexploded materials from past military training is low. The Plum Island Site was previously used to dispose of military materials but has been remediated (cleaned up) and should not be a safety concern for workers. Training for construction workers for either of these sites may be required prior to initiation of construction activities to ensure worker safety. None of the other sites would require remediation or additional considerations for the protection of workers, the public, or the environment.

Waste Management

Waste generation and management would be similar for all sites, although the amount of wastewater would vary somewhat for each site based on total water use. Wastewater discharged by the NBAF would be pretreated as required to meet all local wastewater permit and acceptance requirements, as previously described. Construction would generate construction debris, sanitary solid waste, and wastewater. Operation of the NBAF would result in generation of wastewater, waste solids, and medical, hazardous, and industrial solid wastes.

Health and Safety

The effects of the NBAF on health and safety due to construction and normal operations would be similar for all sites. Standard safety protocols would minimize the likelihood of accidents and personal injury at the NBAF, and normal operations pose no threat to the surrounding communities. An evaluation was conducted to determine the potential for an accidental or intentional (criminal or terrorist) release of a pathogen from the NBAF and the potential for the pathogen to spread from each site alternative. The evaluation considered the accident scenarios with and without measures to prevent and contain a release. The hazard analysis concluded that the likelihood of a release of a pathogen was extremely low, given appropriate attention to the design, construction and operation of the NBAF with the array of safety controls, including a robust facility that is capable of withstanding the various analyzed accident conditions. For all sites the risk of accidental release was independent of where the facility was located. The site specific consequences were shown to be essentially the same between the sites located on the mainland and were slightly lower for the Plum Island Site, due in part to there being less opportunity for the pathogen to become established and spread.

Environmental Justice

No disproportionately high adverse effects to minority or low-income populations were evident at any of the site alternatives. Visual effects and traffic increases due to construction would be minimized with proper site management protocols. Potential traffic effects would be minimized by limiting road closures and rerouting traffic. Economic benefits would potentially occur to low income or minority populations within the area due to a rise in construction-related jobs.

VI. The Environmentally Preferred Alternative

The environmentally preferred alternative is the alternative that causes the least impact to the environment; it is also the alternative that best protects, preserves, and enhances historic, cultural, and natural resources as noted by the CEQ, in its “Forty Most Asked Questions Concerning CEQ's NEPA Regulations” (46 FR 18026, dated March 23, 1981), with regard to 40 CFR 1505.2. Under the No Action Alternative, continued operation of the PIADC would have little or no incremental environmental impacts, except for minor and temporary effects from construction of ongoing infrastructure upgrades. Therefore, DHS has identified the No Action Alternative as the environmentally preferred alternative, because it would have the least environmental impact in the short term. However, the No Action Alternative does not satisfy the purpose of and need for the Proposed Action and associated mission drivers.

The NBAF EIS indicated that there would be very little difference in environmental impacts among the site alternatives. There would be impacts from construction of the NBAF over the short term and from subsequent normal facility operations at all sites. The major discriminator identified would be associated with a release of a pathogen where the potential impact would be slightly less at the Plum Island Site. This is due to both the water barrier around the island and the absence of nearby livestock and susceptible wildlife species. Regardless, the probability of a release is very low at all sites.

Over the longer term, construction and subsequent operations of the NBAF at any of the site alternatives would have potential beneficial effects to wildlife, because the work performed at the NBAF could result in development of vaccines or new diagnostic tools to protect or contain outbreaks of foreign animal diseases.

VII. Comments on the NBAF Final EIS

Approximately 3,000 copies of the NBAF Final EIS and/or NBAF Final EIS Executive Summary were distributed in hard copy or on compact disk to members of Congress and other elected officials; Federal, state, and local government agencies; Native American representatives; public interest groups; public reading rooms; and to individuals. In addition, both the NBAF Final EIS and the Executive Summary are available online at http://www.dhs.gov/nbaf and on request.

Following the release of the NBAF Final EIS, DHS received letters and other correspondence from approximately 60 commentors, including government agencies, elected officials, organizations, and individuals.

• An internal DHS comment was received from the Federal Emergency Management Agency (FEMA) Region IV expressing concerns about the approach in the NBAF EIS to evaluating flood risks at the alternative sites. FEMA suggested that DHS evaluate flood risks at the Preferred Alternative site in greater detail and directed DHS to the Peer Review Plan, Manhattan, Kansas Levee—Section 216 Flood Risk Management Project Feasibility Study (dated January 2008).

DHS notes that the document concerning the feasibility study of the existing Manhattan, Kansas Levee flood risk management project being conducted by the U.S. Army Corps of Engineers Kansas City District is intended to update and verify data on the level of flood risk management provided by the project. DHS is aware of the project, and the NBAF Final EIS acknowledges the flood risk considerations associated with the 1993 flood along the Big Blue and Kansas Rivers. Further, DHS responded to a number of comments on the NBAF Draft EIS relating to concerns about the failure of the Tuttle Creek Dam from natural phenomena and other events. The NBAF would be designed and built to meet or exceed all applicable building codes and to include design provisions sufficient to withstand the effects of site-specific natural phenomena events, including flooding.

• The State of Mississippi cited perceived errors in the NBAF Final EIS and in DHS's Preferred Alternative Selection Memorandum (dated December 2008) concerning evaluation of the Flora Industrial Park Site with regard to its proximity to research capabilities, ample workforce, and level of community acceptance as compared with other alternative sites, including the Preferred Alternative site. The State provided DHS with information about the collaborative university research and veterinary programs that comprise the Gulf States Bio and Agro-Defense Consortium along with Battelle Memorial Institute, the presence of four BSL-3 laboratories in the Jackson metropolitan area, development of the state's high-technology and manufacturing employment business sectors and associated workforce, among other information. They also noted statements made by the DHS Under Secretary for Science and Technology relative to the strength afforded to the Gulf States Bio and Agro-Defense Consortium's NBAF proposal by the participation of Battelle. The State asked that the NBAF Final EIS be amended to correct the cited inaccuracies relative to the Flora Industrial Park Site.

DHS acknowledges the additional information provided by the State of Mississippi relative to research capabilities and workforce availability in Mississippi and, specifically, in the greater Jackson area. DHS further acknowledges exceptionally strong community support for the Flora Industrial Site, as well as unwavering support by all levels of the State's government throughout this process. This information has been carefully considered by DHS. In the DHS Final Selection Memorandum for Site Selection for the Second Round Potential Sites for the National Bio and Agro-Defense Facility (NBAF) (dated July 2007), the Flora, Mississippi site was included as a site alternative, because Battelle's participation in the consortium provided additional benefits that had not been initially considered by the evaluation committees. However, as part of the Preferred Alternative selection process, the Steering Committee again reassessed previous ratings that included Battelle's capabilities and determined that ratings of “Does Not Meet Overall Criteria” were appropriate for the Proximity to Research and Workforce criteria. As discussed in Part I of this ROD, DHS emphasizes that the Proximity to Research and Workforce ratings apply exclusively to the specific research and workforce needs of the proposed NBAF facility, and are not a general statement on the research capability and workforce expertise in Mississippi or other proposing States. DHS continues to believe that the consortium offered a highly innovative proposal that included Battelle. Battelle was fully committed to the consortium and offered a partnership with experts that would benefit the NBAF in Mississippi until such time that a local workforce with expertise in research and biocontainment facilities relevant to the NBAF mission could be developed. However, given the immediacy of the need and the highly competitive package of existing assets offered by the Preferred Alternative, the Manhattan Campus Site in Kansas remained the best alternative of all the strong candidates.

• The Gulf States Bio and Agro-Defense Consortium commented that the text found in the NBAF Final EIS did not match the findings presented in Table ES-3 “Comparison of Environmental Effects” of the NBAF Final EIS.

Section 3.13.6.3 of the NBAF EIS discusses the cumulative impacts in Madison County due to several public and private activities proposed or ongoing that would have potential to impact resources. DHS originally used this analysis to apply the “moderate” rating in the “cumulative effects” category in Table ES-3 “Comparison of Environmental Effects” of the NBAF Final EIS. Upon further analysis of the data, DHS acknowledges that this rating is subject to interpretation and could be changed to “minor.” DHS reaffirms that the NBAF EIS offered very little differentiation among the sites. The Flora Industrial Park Site was given the highest overall EIS rating of “no to minor environmental impacts” by the Steering Committee. The changes do not affect the outcome of the decision process by the Steering Committee or the Decision Authority.

• The Greater Jackson Chapter Partnership, submitted comments on behalf of the Gulf States Bio and Agro-Defense Consortium, in which they commented on the selection of the Manhattan Campus Site as the Preferred Alternative and expressed concerns about the evaluation process for selecting the Preferred Alternative. Comments submitted were similar to those submitted by the State of Mississippi. They also cited the differences in costs between the Flora Industrial Park Site and the Manhattan Campus Site as presented in the NBAF Final EIS; they questioned how numerical differences in costs could receive the same qualitative rating by DHS.

DHS shares concerns about costs in a time of fiscal uncertainty for the Nation. As discussed in the Preferred Alternative Selection Memorandum, DHS evaluated the total life-cycle costs of the alternatives and carefully weighed the cost differences among the alternatives in selecting a Preferred Alternative site. The Steering Committee's review indicated that the offsets to infrastructure costs and “in-kind” contributions offered by the Heartland BioAgro Consortium, including immediate and long-term use of the existing Biosecurity Research Institute at KSU, resulted in the Manhattan Campus Site being rated among the least expensive sites at which to construct and operate the NBAF when all factors were considered.

• U.S. Senator Thad Cochran of Mississippi expressed his support for the comments submitted by the Gulf States Bio and Agro-Defense Consortium regarding DHS's selection of the Preferred Alternative. Senator Cochran also articulated concerns regarding information in the DHS Preferred Alternative Selection Memorandum, dated December 2008, and in the NBAF Final EIS analysis of the costs associated with building at the site alternatives. Specifically, Senator Cochran expressed concerns about statements regarding the estimated costs of building the NBAF at the Manhattan, Kansas site and at the Flora, Mississippi site. He noted that the NBAF Final EIS cites a cost savings of $65,011,459 if NBAF were built at the Flora, Mississippi site rather than the Manhattan, Kansas site. Senator Cochran also questioned how “in-kind” contributions were factored into the cost analysis, noting his understanding that the in-kind pledges offered by Mississippi and Kansas were approximately equal in value, especially when total life-cycle costs of the alternatives are considered.

As previously discussed, DHS did consider the total life-cycle costs of the alternatives in selecting a Preferred Alternative. Both the Gulf States Bio and Agro-Defense Consortium and Heartland BioAgro Consortium offered in-kind contribution packages that completely offset estimated site development costs and both received the highest marks for this criterion. Additionally, the Heartland BioAgro Consortium's offer of the immediate and long-term use of the existing Biosecurity Research Institute, a Biosafety Level 3 facility within close proximity to the Manhattan Campus Site in which research on pathogens threatening large livestock is conducted, was a very attractive in-kind contribution which would further offset the cost of locating the NBAF at the Manhattan Campus Site. It is also important to note that the life-cycle cost of constructing the NBAF was only one aspect of the evaluation criteria considered in the final decision. As discussed in the Preferred Alternative Selection Memorandum and in this ROD, other evaluation criteria were considered and provided distinguishing factors.

• Congressman Bennie Thompson of Mississippi expressed support for the NBAF, while also expressing concern regarding the site selection process. He asked that DHS weigh more heavily the possible effects of a pathogen release at each site, rather than relying solely on the tenet that the risk of release is independent of site location. The Congressman observed that there is precedent for placing national laboratories in rural areas and noted that remote and rural locations provide an additional layer of security and reduced risk. Congressman Thompson also expressed concerns about perceived negative references by DHS to Mississippi's and the Jackson area's research capabilities and workforce and urged DHS to amend the NBAF Final EIS for accuracy.

DHS has evaluated the possible effects of a pathogen release at each site in the NBAF EIS and commissioned the Threat and Risk Assessment separate from the NBAF EIS. The NBAF Steering Committee, as discussed in the Preferred Alternative Selection Memorandum, determined that the risk of release of any pathogen proposed for study at the NBAF could be mitigated by implementation of operational protocols, rigid security measures, and adherence to U.S. biosecurity guidelines. From the perspective of economic consequences should a release of FMDV occur, it was determined that the major impact would be loss of meat export trade status regardless of the site, and that the government's response to an FMD outbreak is the most critical factor regardless where it occurs. Consequently, DHS determined that it was most important to select a location for the proposed NBAF that would optimize the capability to diagnose and cure large animal diseases. Regarding the comments on perceived negative ratings, DHS again notes that site evaluations apply exclusively to the specific research and workforce needs of the proposed NBAF facility, and are not a general statement on the research capability and workforce availability in Mississippi. DHS acknowledges that the consortium offered a highly innovative package in its partnership with Battelle and the strengths of many of the surrounding schools in Mississippi. However, the selected site was able to best meet the immediate need of the research and workforce requirements of the NBAF mission.

• The office of Congressman Tim Bishop of New York suggested consideration of an alternative to keep PIADC in its current BSL-3Ag state while placing the proposed NBAF BSL-4 elsewhere.

This option was considered by DHS, but it was not analyzed as a separate alternative, because the environmental impacts were already considered within the range of reasonable alternatives analyzed in the NBAF EIS. When analyzing this option against DHS's purpose and need for action, DHS concluded that it would not provide enhanced capabilities to detect and prevent threats to animal agriculture. Additionally, the practical consequences of splitting the NBAF laboratory functions would produce a fractured workforce, result in decreased efficiencies and increased costs and was found to not meet the purpose and need as stated in the NBAF EIS. Therefore, DHS considered but did not select the option of building a BSL-4 only laboratory and leaving PIADC in its current state.

• The Texas Bio and Agro-Defense Consortium (TBAC) submitted comments expressing several areas of concern regarding the analysis in the NBAF Final EIS and the selection of the Manhattan Campus Site as the Preferred Alterative for the siting, construction, and operation of the NBAF. TBAC's comments were endorsed in a letter submitted by the State of Texas. Their concerns focused on the following issues: (1) The site evaluation criteria; (2) the cost analysis in the EIS; (3) risks posed by certain environmental impacts; and (4) the site selection process.

TBAC commented that DHS erred in its evaluation of Texas research capabilities, construction costs, workforce, and community acceptance criteria. They asserted that DHS erred in its evaluation of construction costs at the various sites, and that additional financing requirements were unreasonably added in an untimely manner. They expressed concern regarding the perceived failure of the EIS to adequately consider risks and environmental impacts, specifically the risk of a release of hazardous substances due to naturally-occurring events such as tornadoes. TBAC commented on several aspects of the DHS site selection procedures such as initial and subsequent ratings and requests from DHS for supplemental information.

DHS does not agree with TBAC's assertion that the NBAF Final EIS is flawed because the EIS failed to consider the evaluation criteria. DHS did consider the evaluation criteria to establish the range of reasonable alternatives analyzed in the EIS. Any further use of the evaluation criteria in the EIS is not necessary and is not required by CEQ's regulations for implementing NEPA (40 Code of Federal Regulation Parts 1500 et seq.). CEQ regulations state that an EIS “* * * shall provide full and fair discussion of significant environmental impacts and shall inform decision makers and the public of the reasonable alternatives * * * An environmental impact statement is more than a disclosure document. It shall be used by Federal officials in conjunction with other relevant material to plan actions and make decisions (40 CFR 1502.1).” DHS believes that the NBAF Final EIS has been prepared in full compliance with NEPA and CEQ regulations.

DHS's four evaluation criteria, associated sub-criteria, and preferences were used, in part, to assist DHS in the selection of reasonable alternatives for analysis in the NBAF EIS and in selection of a Preferred Alternative. TBAC asserted that DHS unfairly added additional financing requirements to the process. As discussed under Part I of this ROD (Site Selection Process and Evaluation Criteria), DHS communicated its initial criteria, sub-criteria, and preferences throughout the process. One of the initial sub-criteria and then a DHS preference, communicated to the consortia in DHS's December 8, 2006 letter, was for “in-kind” contributions to assist DHS in the completion of this project. As discussed previously, DHS sent the consortia a letter dated February 29, 2008 requesting verification of their final offers by the due date of March 31, 2008. TBAC submitted the verification of its final offer by March 31, 2008. The State of Texas then sent a letter on September 26, 2008 to DHS stating they would use their “best efforts to secure appropriation of not less than the additional $56.3 million from the state funding sources best suited to meet the NBAF's project timeline.” DHS responded to this letter stating “in order to maintain the fairness and integrity of DHS's NBAF Decision Process, the additional $56.3 million cannot be considered by the Steering Committee because it is not a clarification of the previous offer.” While DHS maintains that this additional offer could not be considered, it is notable that even if the additional Texas financial offsets of the September 26, 2008 letter had been included, the Manhattan Campus Site would still be the site offering best value to the Government.

TBAC stated that the NBAF EIS failed to assess risks and impacts of releases resulting from natural phenomena, specifically tornadoes, and asked that DHS reevaluate the release threat from tornado activity. The NBAF Final EIS adequately evaluates the risks and impacts from tornadoes and natural phenomena at all the alternative sites. DHS received numerous comments from individuals and organizations regarding the risks posed to NBAF by natural phenomena hazards such as tornadoes, earthquakes, hurricanes, etc at the Manhattan Campus Site and the other site alternatives. DHS has responded to these comments in the NBAF Final EIS Comment Response Document. As previously stated in this ROD, the NBAF would be designed to withstand normal meteorological conditions as well as the effects of severe weather events, including tornadoes and would meet or exceed the wind load standards of the International Building Code, American Society of Civil Engineers Standard No. 7, Minimum Design Loads for Buildings and Other Structures, and the codes of the local jurisdiction, which take into account the use of the facility as a laboratory.

TBAC also questioned the conclusion in the NBAF EIS that noise effects would be similar for all sites and asserted that the noise analysis and conclusions dismissed the fact that the Texas Research Park is located in an unpopulated area. Section 3.5 of the NBAF EIS begins by describing the methodology for evaluating potential impacts and then describes the acoustic environment for each site followed by an assessment of potential impacts. For the Texas Research Park Site, it is noted that it is “* * *currently located in a rural, undeveloped area west of San Antonio but has been designated as a future industrial and research park site. There are no known sensitive noise receptors at the site” (see Section 3.5.8.1 of the NBAF Final EIS). The EIS clearly acknowledges the current acoustic environment of Texas Research Park Site. As further described in the methodology section of the NBAF Final EIS, the noise analysis evaluated noise-generating sources at each site to assess potential audible effects from facility construction and operation. The overall conclusion was that noise was not an environmental impact discriminator and, therefore, all sites received the same qualitative rating of “minor” as presented in the Executive Summary to the NBAF Final EIS.

Finally, TBAC commented that the text found in the NBAF Final EIS did not match the findings presented in Table ES-3 “Comparison of Environmental Effects” of the NBAF Final EIS. Table ES-3 is based on the affected environment and consequence analysis presented in Chapter 3 of the NBAF Final EIS and could be perceived as open to interpretation. Specifically, a commentor to the NBAF Draft EIS identified a conflict between the text in Section 3.11.8.3.1 that indicated minor effects to traffic at the Texas Research Park Site, while Table ES-3 in the Executive Summary indicated a moderate effect. The comment response document stated that the “Moderate” would be changed to the correct listing of “Minor” as is detailed in Section 3.11.8.3.1 of the NBAF EIS. DHS did not make this modification in the table as the response indicated. DHS acknowledges that both the “traffic and transportation” and “cumulative effects” category for the Texas Research Park Site could be changed to “Minor” and is subject to interpretation. DHS again notes that the NBAF EIS offered very little differentiation among the sites. The Texas Research Park Site was given the highest overall EIS rating of “no to minor environmental impacts” by the Steering Committee. The changes do not affect the outcome of the decision process by the Steering Committee or the Decision Authority.

• A majority of the comments received on the NBAF Final EIS expressed opposition to the selection of the Preferred Alternative and expressed concerns such as the following:

• A pathogenic release due to accidents, natural phenomena such as tornadoes, and terrorist actions;

• Risks from FMD virus research on the U.S. mainland or in any areas with livestock populations;

• Economic and human health effects of a pathogen release on local and national livestock industry, ranchers, and farmers;

• The NBAF site and surrounding community becoming terrorist targets;

• The absence in the NBAF EIS of adequate analysis of physical isolation and water barrier afforded at the Plum Island Site.

These concerns were addressed by DHS in the responses to comments on the NBAF Draft EIS and in the NBAF Final EIS. Many of the same commentors who expressed opposition to the Preferred Alternative also suggested that instead of construction of the NBAF, DHS should upgrade the existing PIADC on Plum Island, New York.

Commentors are referred to the NBAF Final EIS and associated Comment Response Document (Appendix H of the NBAF Final EIS) for information on these issues and DHS's responses to individual comments.

• Mrs. Susan Hodges reported that her letter dated August 25, 2008 and submitted to oppose the selection of the South Milledge Avenue Site was not included in the NBAF Final EIS Comment Response Document, although her name was listed. DHS regrets this error. Mrs. Hodges' letter was one of a small number of comment documents that were postmarked before the end of the comment period (August 25, 2008), but were not delivered to the NBAF Program Office in time for publication in the Comment Response Document. However, DHS did consider these comments and posted the comments and responses on the NBAF Web site as part of Comment Response Document.

DHS considered all comments received on the NBAF Final EIS during the preparation of the ROD. However, in reviewing and balancing the comments received against the decision factors considered in this ROD, DHS determined that no substantially new, relevant information was identified. Therefore, DHS has not changed its view regarding the Preferred Alternative as presented in the NBAF Final EIS and in this ROD.

VIII. Decision Factors

Analysis of the Alternative Sites

As previously described, a DHS Steering Committee reviewed new and emerging data relevant to the original site evaluation criteria (i.e., Proximity to Research Capabilities, Proximity to Workforce, Acquisition/Construction/Operations (ACO) Requirements, and Community Acceptance) for selection of the Preferred Alternative. These same criteria had been utilized by DHS to identify the five site alternatives that were analyzed in the NBAF EIS in addition to the Plum Island Site. DHS emphasizes that the Proximity to Research Capabilities and Workforce criteria apply exclusively to the specific research and workforce needs of the proposed NBAF and are not a general statement on the research capability and workforce expertise of the proposing states and consortia. Using the new and emerging data contained in supporting documents, the Steering Committee reevaluated the strengths and weaknesses of each site relative to the initial site ratings as documented in the Final Selection Memorandum for Site Selection for the Second Round Sites for the NBAF, dated July 2007, and the Plum Island Memorandum for the Record, dated November 2008, with the objective of updating the site ratings relative to the four evaluation criteria. The Steering Committee also considered the results of the NBAF Final EIS, including the public comments made at the public meetings and by other means during the 60-day public comment period on the NBAF Draft EIS.

Overall EIS and Threat and Risk Assessment Results

As discussed in more detail in Part III (Preferred Alternative) of this ROD, DHS determined that the NBAF EIS and the Threat and Risk Assessment presented very little differentiation among the sites. In fact, the NBAF EIS determined that the risk of release of a biological pathogen from the NBAF was independent of where the NBAF was located. DHS also determined that, based on its review of the NBAF EIS, the likelihood of a release of a pathogen was very low, given appropriate attention to the design, construction, and operation of the NBAF with an array of safety controls. Finally, DHS determined that the risk of release of any identified pathogen proposed for study within the NBAF could be mitigated by implementation of operational protocols, rigid security measures, and adherence to the U.S. Government biosecurity guidelines.

With respect to the economic consequence if a release were to happen, the Steering Committee found that the major impact of a release was due to the loss of meat export trade status and that this is independent of the site of the NBAF. As excerpted more fully in Part III (Preferred Alternative) of this ROD, the letter DHS received from Dr. Bernard Vallat, Director General of The World Organization for Animal Health (OIE), in which Dr. Vallat stated that the trade status impact of an outbreak of foot and mouth disease (FMD) virus in a country is “more related to how the country's authorities respond to the incursion, rather than where the outbreak occurs” was particularly informative.

DHS determined that, based on the lack of differentiation among the sites regarding the risk of a release and the economic consequences of a release, that it was most important to select a location that would optimize the capability to diagnose and cure large animal diseases through strong research programs and expedient diagnostic and response capabilities. Furthermore, DHS found that the environmental impacts analyzed in the EIS and the site specific threats were all very similar and that there were only minor differentiators in the EIS and the Threat and Risk Assessment. Therefore, the key differentiators among the sites were DHS's original initial four evaluation criteria. Because the NBAF is intended to be the Nation's preeminent research facility for foreign animal and zoonotic disease research, the site's proximity to research capabilities that can be linked to NBAF mission requirements was emphasized among the four evaluation criteria.

South Milledge Avenue Site; Athens, Georgia

While the South Milledge Avenue Site demonstrated numerous strengths against the evaluation criteria, DHS found that it did not best meet the purpose and need to site, construct, and operate the NBAF based on the Research, Workforce, ACO, and Community Acceptance criteria. This site offers proximity to world class capabilities across disciplines related to the NBAF and collectively there is significant expertise in research on infectious diseases and pathogenesis of animals and humans, as well as zoonoses. However, there is no clear evidence of integration with the biomedical research community and the research focus tends to be on poultry which is not related to the NBAF large livestock animal disease mission. It is attractive that the area is rich in high containment laboratory building expertise. Additionally, the Emory BSL3/4 laboratories and Athens Community College offered training programs for NBAF workers. The EIS demonstrated that for the South Milledge Avenue Site, almost all environmental impacts fell in the “no impacts to minor impacts” category. However, the NBAF EIS stated the site may require an amendment to the Athens-Clarke County Comprehensive Plan based on the current planned use for the area where it is located. The rating for the ACO criterion was further weakened because the offset package offered by the consortium offset only a small percentage of the project cost. The site continued to experience strong Federal level, state, and local political support. However, a well organized, vocal opposition group expressed numerous concerns on siting the NBAF in Athens, Georgia. Additionally, numerous negative comments about the project were received at public meetings. The information presented in the Threat and Risk Assessment was found to be comparable to the other site alternatives. Based on the lack of proximity to NBAF related research and workforce in comparison to the Preferred Alternative, the active community opposition, and the lack of a competitive offset package, DHS did not select the South Milledge Avenue Site as the Preferred Alternative for implementation.

Manhattan Campus Site, Manhattan, Kansas (Preferred Alternative)

Based on the numerous strengths that were evident when evaluating the Manhattan Campus Site against the evaluation criteria, DHS found that this location best met the purpose and need to site, construct and operate the NBAF. Specifically, the site location near KSU provides site proximity to existing research capabilities that can be linked to NBAF mission requirements. Additionally, the site's proximity to the KSU College of Veterinary Medicine, KSU College of Agriculture, and the Biosecurity Research Institute is relevant to the NBAF mission and a significant strength. The EIS demonstrated that construction and operation of the NBAF at the Manhattan Campus Site would be environmentally acceptable as almost all environmental impacts fell into the “no impacts to minor impacts” category. As stated in the EIS and agreed to by the Steering Committee, the risk of release of a pathogen was independent of where the NBAF was located. The information presented in the Threat and Risk Assessment was found to be comparable to the other site alternatives. The Manhattan Campus Site alternative demonstrated very strong community acceptance from local, state, and Federal officials and stakeholders. Additionally, the consortium offered a substantial, unconditional offset package, including use of the existing Biosecurity Research Institute. Taking into consideration the offsets to infrastructure costs and “in-kind” contributions offered by the consortia, the Manhattan Campus Site is among the least expensive locations to construct and operate the NBAF. Following a comparison of this site to the No Action alternative, DHS selected this site alternative as the Preferred Alternative for implementation.

Flora Industrial Park Site; Flora, Mississippi

While the Flora Industrial Park Site demonstrated numerous strengths against the evaluation criteria, DHS found that it did not best meet the purpose and need to site, construct, and operate the NBAF based on the Research and Workforce criteria. DHS concluded that the Mississippi consortium's inclusion of Battelle would not offset the Flora Industrial Park Site's lack of proximity to a critical mass of NBAF related research institutions, such as the lack of a veterinary school and other research entities that could be linked to NBAF mission requirements. While Battelle has strong in-house training programs for laboratories and animal research and would assist in bringing these training programs and expertise to NBAF, this strength does not overcome the lack of an established nearby university or research institution with related mission areas nor the lack of nearby BSL-3 laboratory with related mission areas. The Flora, Mississippi site was included as a site alternative, because Battelle's participation in the consortium provided additional and unique benefits. However, as part of the Preferred Alternative selection process, the Steering Committee again reassessed previous ratings that included Battelle's capabilities and determined that this model did not overcome the previously noted concerns. DHS notes that these ratings apply exclusively to the specific research and workforce needs of the proposed NBAF, and are not a general statement on the research capability and workforce expertise in Mississippi. Battelle was fully committed to the consortium and offered a partnership with experts that would benefit the NBAF in Mississippi until such time that a local workforce with expertise in research and biocontainment facilities relevant to the NBAF mission could be developed. However, given the immediacy of the need, DHS concluded that the lack of existing research and workforce assets within proximity to the site and relevant to the NBAF mission was a weakness. Additionally, the Flora Industrial Park Site demonstrated exceptionally strong community acceptance from local, state, and Federal officials and stakeholders. Further, the consortium offered an offset package that covered a significant portion of the project cost and made this site one of the least expensive upon which to build. The EIS demonstrated that for the Flora Industrial Park Site, almost all environmental impacts fell in the “no impacts to minor impacts” category. The information presented in the Threat and Risk Assessment was found to be comparable to the other site alternatives. However, based on the lack of proximity to NBAF related research and workforce in comparison to the Preferred Alternative, DHS did not select the Flora Industrial Park Site as the Preferred Alternative for implementation.

Plum Island Site; Plum Island, New York

While the Plum Island Site demonstrated numerous strengths against the evaluation criteria, DHS found that it did not best meet the purpose and need to site, construct, and operate the NBAF based on the Research, Workforce, ACO, and Community Acceptance criteria. DHS concluded that even though the existing PIADC has demonstrated the ability to effectively carry out its Foreign Animal Disease (FAD) research mission, the research is focused primarily on FMDV (compared to the broader NBAF research mission requirements) and there is a lack of proximity to medical and veterinary schools as well as BSL-3/4 laboratories with related mission areas. While the current PIADC staff has experience with large animal research, there would still need to be a significant amount of training for working in BSL-4 spaces. Additionally, even though there would be a lower cost and risk to relocate research programs from the PIADC facility to the NBAF, if the NBAF were to be constructed on Plum Island, these cost savings would be overshadowed by the much higher construction cost at the Plum Island Site. There is strong political opposition at Federal, state, and local levels to having BSL-4 research on Plum Island. The EIS demonstrated that for the Plum Island Site almost all environmental impacts fell in the “no impacts to minor impacts” category. The information presented in the Threat and Risk Assessment was found to be comparable to the other site alternatives. Additionally, in November 2008, the World Organization for Animal Health (OIE) stated that, a FMD virus outbreak on an island would be considered no different from an FMDV outbreak on the mainland with respect to the impact such an outbreak would have on the Nation's meat-export trade status and that, therefore, it was most important to optimize the facility to diagnose and cure large animal diseases. Accordingly, based on the lack of proximity to NBAF related research and workforce in comparison to the Preferred Alternative, the local public and political opposition to a BSL-4 laboratory on Plum Island, and the significant cost to build and operate on Plum Island, DHS did not select the Plum Island Site as the Preferred Alternative for implementation.

Umstead Research Farm Site; Butner, North Carolina

While the Umstead Research Farm Site demonstrated numerous strengths against the evaluation criteria, DHS found that it did not best meet the purpose and need to site, construct, and operate the NBAF based on the ACO and Community Acceptance criteria. A significant strength is the critical mass of intellectual and scientific capital (comprised of universities, the private sector, and pharmaceutical and biotechnology companies) all within proximity to the site and that can be linked to NBAF mission requirements. Three area universities (Duke University, University of North Carolina, and North Carolina State University) offer significant opportunities to draw and train a skilled workforce. Additionally, the biomanufacturing firms and biotechnology research and development programs within the area, coupled with 24 BSL-3's, provide a strong base for a skilled workforce. However, the Umstead Research Farm Site experienced strong local opposition to the NBAF with limited Federal, state, and stakeholder support. The well-organized and vocal opposition group to the NBAF grew to such a level that some federal and state level representatives withdrew their original support for the project. Additionally, numerous negative comments about the project were received at public meetings. The North Carolina rating was not competitive for the ACO criterion because the North Carolina consortium offered minimal offsets to site costs. The EIS demonstrated that for the Umstead Research Farm Site almost all environmental impacts fell in the “no impacts to minor impacts” category. The information presented in the Threat and Risk Assessment was found to be comparable to the other site alternatives. However, based on the concern for the active community opposition in addition to the limited Federal, state, and local political support and the lack of a competitive offset package, DHS did not select the Umstead Research Farm Site as the Preferred Alternative for implementation.

Texas Research Park Site; San Antonio, Texas

While the Texas Research Park Site demonstrated numerous strengths against the evaluation criteria, DHS found that it did not best meet the purpose and need to site, construct, and operate the NBAF based on the Research and ACO criteria. While a strength is the site's proximity to other research entities, such as a BSL-4 laboratory and several BSL-3 laboratories, which could foster research collaboration, this strength is tempered by the fact that no Veterinary School or College of Agriculture is nearby. Site proximity to workforce is a strength, as there is a strong military veterinary infrastructure which possesses significant worldwide experience with exotic animal diseases. The Texas Research Park Site also demonstrated very strong community acceptance from local, state, and Federal officials and stakeholders. However, the rating for the ACO criterion was not as strong or competitive as the Manhattan Campus Site. While the Texas consortium offered a very good offset package, only a small percentage of this package was unconditional and could be used as a direct offset to the project cost. The EIS demonstrated construction and operation of the NBAF at the Texas Research Park Site would be environmentally acceptable as the impacts fell in the “no impacts to minor impacts” category. Finally, the information presented in the Threat and Risk Assessment was found to be comparable to the other site alternatives. Therefore, based on the site's lack of proximity to a Veterinary School or College of Agriculture and the lack of a competitive offset package, DHS did not select the Texas Research Park Site as the Preferred Alternative for implementation.

IX. Decision

DHS has considered environmental impacts, public comments on the NBAF Draft EIS and the Final EIS, national policy, evaluation criteria, threat and risk assessments, costs, site characterizations, security, and other programmatic requirements in its decision to site, construct, and operate the NBAF in Manhattan, Kansas. It is also noted that the NBAF Final EIS's risk assessment of FMDV impacts to the mainland allowed for full public and stakeholder participation. Upon consultation with the Secretaries of Homeland Security and Agriculture, the Decision Authority (Under Secretary Cohen) accepted the unanimous recommendation of the Steering Committee and selected Manhattan, Kansas as the site for the NBAF. DHS has therefore decided, in consultation with USDA, to implement its Preferred Alternative to construct and operate the NBAF at the Manhattan Campus Site in Kansas. DHS determined that the Manhattan Campus Site offers the best benefit to the Government based upon the evaluation criteria and DHS preferences and, most importantly, meets the intended purpose and need to safely and successfully site, construct, and operate the NBAF. DHS would also initiate the transition of mission activities and resources from the Plum Island Animal Disease Center (PIADC), located on Plum Island, New York to the Manhattan Campus Site, including research related to FMD. DHS anticipates that construction of NBAF would begin in fiscal year 2010 with completion by the end of 2014.

X. Mitigation

As identified in Section 3.15 of the NBAF Final EIS and as summarized, where appropriate, in this ROD, DHS would implement specific mitigation measures in the design, construction, and operation of the NBAF. These include appropriate pollution control and best management practices during construction so as to minimize adverse impacts to the environment and to incorporate architectural design features, biocontainment technologies, operational procedures, training and protocols, and waste management technologies and procedures to minimize environmental impacts during routine operations. The NBAF would be designed and constructed to emphasize strategies for sustainable site development, water savings, energy efficiency, material selection, and indoor environmental quality to include measures consistent with the low-impact design (LID) approach. To minimize potential impacts in the unlikely event of a release, DHS would have site-specific standard operating procedures and response plans in place prior to the initiation of research activities at the NBAF. Additionally, DHS intends, where applicable, to consider the recommendations of the Government Accountability Office (GAO) on perimeter security found in the September 2008 Report to Congressional Committees entitled Biosafety Laboratories: Perimeter Security Assessment of the Nation's Five BSL-4 Laboratories. Upon review of the site specific Threat and Risk Assessment, to be developed during the design phase, DHS will implement a comprehensive risk-based physical and personnel security program for the NBAF.

All practicable and economically feasible means to avoid or minimize environmental harm from the selected alternative have been adopted and would, as applicable, be incorporated into the design of the NBAF. The mitigation measures described in Section 3.15 of the NBAF EIS are incorporated into this ROD and are considered part of the selected alternative.

Authority: 42 U.S.C. 4321-4347 (National Environmental Policy Act).

Dated: January 12, 2009.
Jay M. Cohen,
Under Secretary, Science & Technology, DHS.

[FR Doc. E9-914 Filed 1-15-09; 8:45 am]

BILLING CODE 4410-10-P